DEPARTMENT OF VETERANS AFFAIRS

[OMB Control No. 2900—NEW]

Hand and Finger Conditions Disability Benefits; Correction

AGENCY: Veterans Benefits Administration, Department of Veterans Affairs.

ACTION: Notice; correction.

SUMMARY: The Department of Veterans Affairs (VA) published an information collection notice in a Federal Register on November 15, 2013 (78 FR 68907), that omitted 60-day Federal Register notice information. This document corrects the error by adding the Federal Register notice information.

FOR FURTHER INFORMATION CONTACT: Crystal Rennie, Enterprise Records Service (005R1B), Department of Veterans Affairs, 810 Vermont Avenue NW., Washington, DC 20420, at (202) 632-7492.

Correction

In FR Doc. 2013-27407, published on November 15, 2013, at 78 FR 68907, make the following corrections.

On page 68907, in the first column, under the SUPPLEMENTARY SECTION heading, above the AFFECTED PUBLIC heading, add the following information:

“An agency may not conduct or sponsor, and a person is not required to respond to a collection of information unless it displays a currently valid OMB control number. The Federal Register notice with a 60-day comment period soliciting comments on this collection of information was published on November 15, 2013, at page 68907.”

Dated: January 8, 2014.
By Direction of the Secretary.
Crystal Rennie,
VA Clearance Officer, Department of Veterans Affairs.

[FR Doc. 2014-00385 Filed 1-10-14; 8:45 am]

BILLING CODE 8320-01-P